DEPARTMENT OF COMMERCE

National Oceanic and Atmospheric Administration

RIN 0648-XF482

Taking and Importing of Marine Mammals

AGENCY: National Marine Fisheries Service (NMFS), National Oceanic and Atmospheric Administration (NOAA), Commerce.

ACTION: Notice; five-year affirmative finding for Peru.

SUMMARY: The NMFS Assistant Administrator (Assistant Administrator) has issued a five-year affirmative finding for the Government of Peru under the Marine Mammal Protection Act (MMPA). This affirmative finding will allow yellowfin tuna and yellowfin tuna products harvested in the eastern tropical Pacific Ocean (ETP) in compliance with the Agreement on the International Dolphin Conservation Program (AIDCP) by Peruvian-flagged purse seine vessels or purse seine vessels operating under Peruvian jurisdiction to be imported into the United States. The affirmative finding determination was based on reviews of documentary evidence submitted by the Government of Peru and by information obtained from the Inter-American Tropical Tuna Commission (IATTC).

DATES: This affirmative finding is effective for the five-year period of April 1, 2017, through March 31, 2022.

FOR FURTHER INFORMATION CONTACT: Justin Greenman, West Coast Region, National Marine Fisheries Service, 501 W. Ocean Blvd., Suite 4200, Long Beach, CA 90802. Phone: 562-980-3264. Email: justin.greenman@noaa.gov.

SUPPLEMENTARY INFORMATION: The MMPA, 16 U.S.C. 1361 et seq., allows for importation into the United States of yellowfin tuna harvested by purse seine vessels in the ETP under certain conditions. If requested by the harvesting nation, the Assistant Administrator will determine whether to make an affirmative finding based upon documentary evidence provided by the government of the harvesting nation, the IATTC, or the Department of State.

The affirmative finding process requires that the harvesting nation is meeting its obligations under the AIDCP and its obligations of membership in the IATTC. Every five years, the government of the harvesting nation must request a new affirmative finding and submit the required documentary evidence directly to the Assistant Administrator. On an annual basis, NMFS reviews the affirmative finding and determines whether the harvesting nation continues to meet the requirements. A nation may provide information related to compliance with AIDCP and IATTC measures directly to NMFS on an annual basis or may authorize the IATTC to release the information to NMFS to annually renew an affirmative finding determination without an application from the harvesting nation.

An affirmative finding will be terminated, in consultation with the Secretary of State, if the Assistant Administrator determines that the requirements of 50 CFR 216.24(f) are no longer being met or that a nation is consistently failing to take enforcement actions on violations, thereby diminishing the effectiveness of the AIDCP.

As a part of the affirmative finding process set forth in 50 CFR 216.24(f)(8), the Assistant Administrator considered documentary evidence submitted by the Government of Peru and obtained from the IATTC and has determined that Peru have met the MMPA's requirements to receive an affirmative finding.

After consultation with the Department of State, the Assistant Administrator issued a five-year affirmative finding to Peru, allowing the importation into the United States of yellowfin tuna and products derived from yellowfin tuna harvested in the ETP by Peruvian-flagged purse seine vessels or purse seine vessels operating under Peruvian jurisdiction for the five-year period of April 1, 2017, through March 31, 2022, subject to subsequent annual reviews by NMFS.

Dated: June 19, 2017.
Samuel D. Rauch III,
Deputy Assistant Administrator for Regulatory Programs, National Marine Fisheries Service.

[FR Doc. 2017-13044 Filed 6-21-17; 8:45 am]

BILLING CODE 3510-22-P